DEPARTMENT OF HEALTH AND HUMAN SERVICES

National Institutes of Health

Center for Scientific Review; Amended Notice of Meeting

Notice is hereby given of a change in the meeting of the Cellular Aspects of Diabetes and Obesity Study Section, June 7, 2006, 7 p.m. to June 9, 2006, 5 p.m., Doubletree Hotel Bethesda, 8120 Wisconsin Ave., Bethesda, MD 20814 which was published in the Federal Register on May 16, 2006, 71 FR 28365-28367.

The meeting will be held June 8, 2006, 8 a.m. to June 9, 2006, 5 p.m. at the Clarion Hotel Bethesda Park, 8400 Wisconsin Avenue, Bethesda, MD 20814. The meeting is closed to the public.

Dated: June 1, 2006.
Anna Snouffer,
Acting Director, Office of Federal Advisory Committee Policy.

[FR Doc. 06-5255 Filed 6-8-06; 8:45 am]

BILLING CODE 4140-01-M